DEPARTMENT OF HOMELAND SECURITY

Coast Guard

33 CFR Part 100

[Docket No. USCG-2025-0804]

Special Local Regulations; Recurring Marine Events, Sector St. Petersburg

AGENCY: Coast Guard, DHS.

ACTION: Notification of enforcement of regulation.

SUMMARY: The Coast Guard will enforce a special local regulation for the Clearwater Offshore Nationals on September 27, 2025 and September 28, 2025, to provide for the safety of life on navigable waterways during this event. Our regulation for marine events within the Captain of the Port (COTP) Sector St. Petersburg zone identifies the regulated area for this event in Clearwater, FL. During the enforcement periods, the operator of any vessel in the regulated area must comply with directions from the Patrol Commander or any Official Patrol displaying a Coast Guard ensign.

DATES: The regulations in 33 CFR 100.703 will be enforced for the Clearwater Offshore Nationals race regulated areas listed in Item No. 6, Table 1 to § 100.703, from 10 a.m. until 5 p.m., from September 27, 2025 through September 28, 2025.

FOR FURTHER INFORMATION CONTACT: If you have questions about this notification of enforcement, call or email Lieutenant Ryan McNaughton. Sector St. Petersburg, Ports & Waterways Branch Chief, U.S. Coast Guard; telephone (813) 918-7270, email Ryan.A.McNaughton@uscg.mil.

SUPPLEMENTARY INFORMATION: The Coast Guard will enforce a special local regulation in 33 CFR 100.703 for the Clearwater Offshore Nationals regulated area in Item No. 6, Table 1 to § 100.703, from 10 a.m. until 5 p.m., from September 27, 2025, through September 28, 2025. This action is being taken to provide for the safety of life on navigable waterways during this 2-day event. Our regulation for recurring marine events within the COTP Sector St. Petersburg, § 100.703, specifies the location of the regulated area for the Clearwater Offshore Nationals which encompasses portions of the Gulf of America near Clearwater, FL. During the enforcement periods, as reflected in § 100.703(c), if you are the operator of a vessel in the regulated area you must comply with directions from the Patrol Commander or any designated representative.

The Coast Guard may be assisted by other Federal, State, or local law enforcement agencies in enforcing this regulation. In addition to this notice of enforcement in the Federal Register, the Coast Guard will provide notice of the regulated area via Local Notice to Mariners, Marine Safety Information Bulletins, Broadcast Notice to Mariners, and on-scene designated representatives.

Dated: August 25, 2025.
Courtney A. Sergent,
Captain, U.S. Coast Guard, Captain of the Port Sector St. Petersburg.

[FR Doc. 2025-16684 Filed 8-28-25; 8:45 am]

BILLING CODE 9110-04-P